FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
September 1, 2020 thru September 30, 2020
09/04/2020
20201342 | G | Medtronic Public Limited Company; Companion Medical, Inc.; Medtronic Public Limited Company.
20201374 | G | Oaktree Opportunities Fund Xb, L.P.; UP Energy Corporation; Oaktree Opportunities Fund Xb, L.P.
20201384 | G | Elliott Associates, L.P.; Noble Energy Inc.; Elliott Associates, L.P.
20201385 | G | Elliott International Limited; Noble Energy Inc.; Elliott International Limited.
20201386 | G | American Express Company; Alpha Kabbage, Inc.; American Express Company.
20201387 | G | Arches Holdings Inc.; Ancelux Topco S.C.A.; Arches Holdings Inc.
20201392 | G | Capital Partners Private Equity Income Fund III, L.P.; YC Holdings, Inc.; Capital Partners Private Equity Income Fund III, L.P.
20201394 | G | General Atlantic Partners AIV-1 B, L.P.; RAWK Holdings LLC; General Atlantic Partners AIV-1 B, L.P.
20201396 | G | Senator Global Opportunity Master Fund L.P.; CoreLogic, Inc.; Senator Global Opportunity Master Fund L.P.
20201402 | G | BidCo 100 Limited; OneWeb Global Limited; BidCo 100 Limited.
20201407 | G | DiamondPeak Holdings Corp.; Stephen S. Burns; DiamondPeak Holdings Corp.
20201409 | G | The Founders Fund II, LP; Palantir Technologies Inc.; The Founders Fund II, LP.
20201410 | G | The Founders Fund III, LP; Palantir Technologies Inc.; The Founders Fund III, LP.
20201411 | G | The Founders Fund IV, LP; Palantir Technologies Inc.; The Founders Fund IV, LP.
20201413 | G | Peter Thiel; Palantir Technologies Inc.; Peter Thiel.
20201415 | G | William G. Davis; James J. Arrigo; William G. Davis.
20201418 | G | Software Acquisition Group Inc.; John S. Hendricks and Maureen D. Hendricks; Software Acquisition Group Inc.
09/09/2020
20201419 | G | Clayton, Dubilier & Rice Fund XI, L.P.; HD Supply Holdings, Inc.; Clayton, Dubilier & Rice Fund XI, L.P.
20201425 | G | Clayton, Dubilier & Rice Fund XI, L.P.; Construction Supply Investments, LLC; Clayton, Dubilier & Rice Fund XI, L.P.
20201426 | G | Gridiron Capital Fund IV, L.P.; Clarion Investors II, LP; Gridiron Capital Fund IV, L.P.
20201430 | G | EQT Infrastructure IV (No. 1) EUR SCSp; EdgeConnex, Inc.; EQT Infrastructure IV (No. 1) EUR SCSp.
20201431 | G | Perpetual Limited; BrightSphere Investment Group Inc.; Perpetual Limited.
20201433 | G | Cognizant Technology Solutions Corporation; ASH V1, LLC; Cognizant Technology Solutions Corporation.
20201434 | G | Omnicell, Inc.; David A. Borden; Omnicell, Inc.
20201435 | G | Palo Alto Networks, Inc.; Justin Jordan; Palo Alto Networks, Inc.
20201437 | G | Southwestern Energy Company; Montage Resources Corporation; Southwestern Energy Company.
20201438 | G | WEC Energy Group, Inc.; Iberdrola S.A.; WEC Energy Group, Inc.
20201447 | G | Hennessy Capital Acquisition Corp. IV; Canoo Holdings Ltd.; Hennessy Capital Acquisition Corp. IV.
20201449 | G | Alfa Laval AB; Neles Corporation; Alfa Laval AB.
20201450 | G | Nippon Telegraph and Telephone Corporation; Frank Selldorff; Nippon Telegraph and Telephone Corporation.
20201451 | G | GI Partners Fund V LP; Condor Top Holdco Limited; GI Partners Fund V LP.
20201455 | G | Sovos Brands Limited Partnership; Matthew LaCasse; Sovos Brands Limited Partnership.
20201457 | G | WorldRemit Group Limited; Chime Inc.; WorldRemit Group Limited.
20201461 | G | Cryoport, Inc.; Chart Industries, Inc.; Cryoport, Inc.
20201462 | G | Kinnevik AB; Teladoc Health, Inc.; Kinnevik AB.
20201467 | G | RWS Holdings Plc; SDL plc; RWS Holdings Plc.
20201474 | G | KPCI Holdings Ltd.; Partners Group Access 822, L.P.; KPCI Holdings Ltd.
20201477 | G | Fastly, Inc.; Signal Sciences Corp.; Fastly, Inc.
20201479 | G | Thomas H. Lee Parallel Fund VIII, L.P.; Insurance Technologies Holdings, LLC; Thomas H. Lee Parallel Fund VIII, L.P.
09/11/2020
20201253 | G | Sunrun Inc.; Blackstone Capital Partners VI L.P.; Sunrun Inc.
20201255 | G | Blackstone Capital Partners VI L.P.; Sunrun Inc.; Blackstone Capital Partners VI L.P.
20201460 | G | Greenbridge Investment L.P.; Neo4j, Inc.; Greenbridge Investment L.P.
20201478 | G | Emerson Electric Co.; Open Systems International, Inc.; Emerson Electric Co.
09/15/2020
20201469 | G | Gores Metropoulos, Inc.; Luminar Technologies, Inc.; Gores Metropoulos, Inc.
20201495 | G | Unilever N.V.; The LIV Group Inc.; Unilever N.V.
20201499 | G | Trident VIII, L.P.; Revere Parent, Inc.; Trident VIII, L.P.
20201501 | G | Cognizant Technology Solutions Corporation; Pamlico Capital III, L.P.; Cognizant Technology Solutions Corporation.
20201502 | G | Carlyle Partners VII, L.P.; Victory Innovations Company, Inc.; Carlyle Partners VII, L.P.
20201504 | G | MRI Parent Holdings, LLC; Thomas C. Priore; MRI Parent Holdings, LLC.
20201505 | G | Genstar Capital Partners IX, L.P.; Utopia Investment Holdings, LLC; Genstar Capital Partners IX, L.P.
20201506 | G | Cove Hill Partners Fund I, L.P.; Vista Equity Endeavor Fund I, L.P.; Cove Hill Partners Fund I, L.P.
20201507 | G | Trine Acquisition Corp.; Desktop Metal, Inc.; Trine Acquisition Corp.
20201510 | G | GI Partners Fund V LP; Charlesbank Equity Fund VII, Limited Partnership; GI Partners Fund V LP.
09/16/2020
20201496 | G | KKR Next Generation Technology Growth Fund II SCSp; Zwift, Inc.; KKR Next Generation Technology Growth Fund II SCSp.
20201509 | G | Roark Capital Partners V (T) LP; ServiceMaster Global Holdings, Inc.; Roark Capital Partners V (T) LP.
09/17/2020
20201436 | G | Daniel Kretinsky; Foot Locker, Inc.; Daniel Kretinsky.
09/21/2020
20201494 | G | KKR Raptor Aggregator L.P.; FTV IV, L.P.; KKR Raptor Aggregator L.P.
20201522 | G | Snow Phipps III, L.P.; Prototek Holdings LLC; Snow Phipps III, L.P.
20201523 | G | Progress Software Corporation; Chef Software Inc.; Progress Software Corporation.
20201524 | G | Clayton, Dubilier & Rice Fund X, L.P.; KKR Element Aggregator L.P.; Clayton, Dubilier & Rice Fund X, L.P.
20201527 | G | Universal Corporation; Heinz-Peter Schmidt; Universal Corporation.
20201529 | G | The Veritas Capital Fund VI, L.P.; Rosetta Stone Inc.; The Veritas Capital Fund VI, L.P.
20201530 | G | Temasek Holdings (Private) Limited; Farmer's Business Network Inc.; Temasek Holdings (Private) Limited.
20201531 | G | Chelsea Worldwide, Inc.; Clene Nanomedicine, Inc.; Chelsea Worldwide, Inc.
20201534 | G | HSI Holdings I, Inc.; AF Software Holdings, Inc.; HSI Holdings I, Inc.
09/22/2020
20201484 | G | Andreessen Horowitz LSV Fund I, L.P.; Coinbase Global, Inc.; Andreessen Horowitz LSV Fund I, L.P.
20201571 | G | Cisco Systems, Inc.; Acacia Communications, Inc.; Cisco Systems, Inc.
09/23/2020
20201439 | G | NovaSource Power Holdings, Inc.; First Solar, Inc.; NovaSource Power Holdings, Inc.
20201489 | G | Wellspring Capital Partners VI, L.P.; Tenex Capital Partners II, L.P.; Wellspring Capital Partners VI, L.P.
09/25/2020
20201550 | G | Riverstone/Carlyle Global Energy and Power Fund IV; Schlumberger N.V.; Riverstone/Carlyle Global Energy and Power Fund IV.
20201551 | G | Schlumberger N.V.; Riverstone/Carlyle Global Energy and Power Fund IV; Schlumberger N.V.
09/29/2020
20201349 | G | Clarivate Plc; GEI VII Capri Holdings, LLC; Clarivate Plc.
20201547 | G | Commonspirit Health; Yavapai Community Hospital Association; Commonspirit Health.
09/30/2020
20201532 | G | Palladium Equity Partners V, L.P.; ACP Investment Fund III-A, L.P.; Palladium Equity Partners V, L.P.
20201538 | G | Backyard Limited Partnership; Yves Barrette; Backyard Limited Partnership.
20201540 | G | TFI International Inc.; R.R. Donnelley & Sons Company; TFI International Inc.
20201546 | G | JLL Partners Fund VIII, L.P.; MedeAnalytics Parent, Inc.; JLL Partners Fund VIII, L.P.
20201552 | G | Nordic Capital X Alpha, L.P.; Morten Ebbesen; Nordic Capital X Alpha, L.P.
20201553 | G | Genossenschaft Zentralschweizer Milchproduzenten ZMP; The Interogo Foundation; Genossenschaft Zentralschweizer Milchproduzenten ZMP.
20201555 | G | Third Point Reinsurance Ltd.; China Minsheng Investment Group Corp., Ltd.; Third Point Reinsurance Ltd.
20201556 | G | China Minsheng Investment Group Corp., Ltd.; Third Point Reinsurance Ltd.; China Minsheng Investment Group Corp., Ltd.
20201558 | G | Flying Eagle Acquisition Corp.; Andrew Paradise; Flying Eagle Acquisition Corp.
20201562 | G | Conyers Park II Acquisition Corp.; Karman Topco L.P.; Conyers Park II Acquisition Corp.
20201563 | G | Universities Superannuation Scheme Limited; TP Group PECO—LLC; Universities Superannuation Scheme Limited.
20201564 | G | Odyssey Investment Partners Fund VI, LP; ProPharma Group Topco, LLC; Odyssey Investment Partners Fund VI, LP.
20201566 | G | Clearlake Capital Partners VI, L.P.; Cardinal Parent, Inc.; Clearlake Capital Partners VI, L.P.
20201567 | G | Carlyle Partners VII, L.P.; TriNetX, Inc.; Carlyle Partners VII, L.P.
20201574 | G | Barings BDC, Inc.; MVC Capital, Inc.; Barings BDC, Inc.

FOR FURTHER INFORMATION CONTACT: Theresa Kingsberry (202-326-3100), Program Support Specialist, Federal Trade Commission Premerger Notification Office, Bureau of Competition, Room CC-5301, Washington, DC 20024.

By direction of the Commission.
April J. Tabor,
Acting Secretary.

[FR Doc. 2020-22943 Filed 10-15-20; 8:45 am]

BILLING CODE 6750-01-P